DEPARTMENT OF HEALTH AND HUMAN SERVICES

Office of Refugee Resettlement

Grants and Cooperative Agreements; Notice of Availability

Funding Agency Contact Name: Administration for Children and Families, Office of Refugee Resettlement.

Funding Opportunity Title: Standing Announcement for Services to Recently Arrived Refugees.

Announcement Type: Modification. This Standing Announcement for Services to Recently Arrived Refugees replaces ORR's previous Standing Announcement published in the Federal Register, May 9, 2001 (66 FR 23705). Please note that Priority Area 3 (Services for Arriving Refugees with Special Conditions) has been discontinued. Priority Area 3 is now Ethnic Community Self-Help.

Funding Opportunity Number: HHS-2004-ACF-ORR-RE-0004.

CFDA Number: 93.576.

Due Date for Applications: The Director will observe February 28, 2005, as the first closing date for applications. Thereafter the Director will observe February 28 of each year as the closing date for applications.

Executive Summary: The Office of Refugee Resettlement (ORR) invites the submission of applications for funding, on a competitive basis, in three priority areas: Priority Area 1—Preferred Communities—to promote the increase of newly arrived refugees in preferred communities where they have ample opportunities for early employment and sustained economic independence and, to address special populations who need intensive case management, culturally and linguistically appropriate linkages and coordination with other service providers to improve their access to services; Priority Area 2—Unanticipated Arrivals—to provide services to arriving refugees or sudden large secondary migration of refugees where communities are not sufficiently prepared in terms of linguistic or culturally appropriate services; Priority Area 3—Ethnic Community Self-Help—to connect newcomer refugees and their communities with community resources.

I. Funding Opportunity Description

Legislative Authority: This program is authorized by section 412(c)(1)(A) of the Immigration and Nationality Act (INA)(8 U.S.C. 1522(c)(1)(A), as amended, which authorizes the Director “to make grants to, and enter into contracts with, public or private nonprofit agencies for projects specifically designed—(i) to assist refugees in obtaining the skills which are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, educational and other services.”

Please note that this announcement is divided into three priority areas: Priority Area 1 is on Preferred Communities. Priority Area 2 is on Unanticipated Arrivals immediately follows part VIII Other Information of the first priority area. Priority Area 3 is on Ethnic Community Self-Help and immediately follows part VIII Other Information of the second priority area. An applicant may submit more than one application under this announcement, but must apply separately for each priority area.

Priority Area 1: Preferred Communities

Description

Purpose and Objectives. The purpose and objectives of Priority Area 1, Preferred Communities, are to support resettlement of newly arriving refugees with the best opportunities for their assimilation into new communities, and to support refugees with special needs that require more intensive case management. Applicants may apply to support resettlement in new communities targeted to geographic sites or special populations agreed to in consultation with the Department of State/Bureau for Population, Refugees and Migration (PRM) and ORR.

This announcement retains the original purpose to support resettlement of newly arriving refugees with the best opportunities for their assimilation into new communities. This announcement is expanded to include services to special populations in communities where intensive case management needs can more appropriately be met through services that are both culturally and linguistically competent and promote access to mainstream services.

A preferred community should expect to receive a minimum of 100 new refugees annually or expect to receive a proposed number of cases that will need intensive case management. ORR will consider exceptions to this standard where the applicant provides substantial justification for the request and documents the community's history of arrivals, the period of time needed to reach a level of 100 new refugees, and the record of outcomes for achieving self-sufficiency soon after arrival.

Preferred community sites are those localities which support populations where refugees have excellent opportunities to achieve early employment and sustained economic independence without public assistance. Preferred communities should have a history of low welfare utilization by refugees. In addition, refugees should have the potential for earned income at a favorable level relative to the cost of living and to public assistance benefits. Characteristics of these communities include: (1) A moderate cost of living; (2) excellent employment opportunities in a strong, entry-level labor market; (3) affordable housing and transportation accessible for employment; (4) low secondary out-migration rates for refugees; (5) communities with churches, mosques and synagogues that meet the religious needs of arriving populations; (6) local community support and positive reception for the refugees; (7) receptive school environments; and (8) other related community features that contribute to a favorable quality of life for arriving refugees.

To achieve the original objective of improved opportunities for assimilation and self-sufficiency, the applicant should propose communities that have been approved by PRM in the Reception and Placement Cooperative Agreement. Communities should be selected where there have not been large numbers of recent arrivals, but the prospects for resettlement appear to be favorable for additional refugees. The selected sites may be those with a history of successful refugee placement or those where refugees have not previously been placed, but which have all the elements of a successful refugee resettlement community (as described above). ORR is interested in providing resources for national voluntary agencies to cover the costs of changing community placements so that refugees, including those with special needs, are placed in a particular site where they have the best chance for integration.

To support resettlement of refugees in communities where they will have the best opportunities for assimilation and to provide support for populations who have special needs, successful applicants may propose additional or alternative communities in consultation with PRM and ORR. ORR will grant approval for these sites in writing following the consultation. With these funds, successful applicants will propose services that need to be enhanced or increased in light of arriving populations.

The application must, for the first budget period, specify one or more sites with a description of each site and the rationale for its selection, or describe a population with special needs requiring more intensive case management in a particular site. Applicants are encouraged to include activities that assess and plan services for the target populations to be resettled. For preferred community sites, such activities would also assess each specified community's appropriateness for additional arriving refugees and, if needed, continue to search for additional communities for future preferred placement. Additional sites and refugee populations with special conditions may be added by submitting the revised plan and the site descriptions in the continuation application.

ORR formula social service funds are awarded to States to provide services proportionate to the number of refugee arrivals during the previous three years. A year or more may lapse before newly arriving refugees are included in the formula count. To maintain working relationships and coordination with State governments, planning for the application and implementation of Preferred Community Programs should be done in consultation with the respective State Refugee Coordinator and documented to assure an orderly transition and complement of services until the proportion of new arrivals is accounted for in the ORR formula awards. Applicants should view the Preferred Community Program as a temporary solution to cover the costs of increased refugee placements. Applicants should describe their coordination and planning under the Approach review criteria.

If funding is requested in sites with alternative “Wilson/Fish” projects, applicants must demonstrate a strong rationale as to why additional funds are needed in this community and document consultation with the “Wilson/Fish” project.

In the last two Program Performance Reports, grantees will discuss the transition of services indicating whether the services are now supported by the State or Wilson/Fish project, other public or private resources, or are no longer needed. These reports must provide supporting information on the impact of the services on the target population.

Examples of special populations needing intensive case management may include, at a minimum, youth and young adults without parents or permanent guardians who have spent an unusually long period under refugee camp conditions; refugees experiencing social or psychological conditions including emotional trauma resulting from war; refugees who are HIV+; or other populations with physical disabilities or medical conditions identified and determined by PRM and ORR as needing intensive case management. Culturally and linguistically appropriate linkages and coordination with other service providers is necessary to improve access to services and enhance the likelihood of their assimilation into new communities.

Allowable Activities. Allowable activities for local affiliates include social services needed to achieve increased placements in the preferred communities. Allowable activities for the national voluntary agencies are those that assess the appropriateness of resettlement communities for targeted refugees. The result of the assessment should assure that the designated service providers in the preferred communities provide services that create excellent opportunities to assimilate the targeted groups of refugees and special populations.

As part of the application preparation, the applicant must: (1) Consult with ORR about prospective preferred sites and the appropriateness of those sites for the refugees; (2) coordinate with their affiliates and other voluntary agencies whose local affiliates place refugees in the same sites; (3) inform in writing and coordinate with State governments for site selection, adequate services, and program strategies to be developed; and (4) plan and coordinate locally with existing community resources, such as schools and public health agencies. In all instances, activities must be designed to supplement, rather than to supplant, the existing array of services available in the community for which refugees are eligible.

The additional services needed for special populations may include: special medical care; physical therapy for disabled refugees; independent living skills, social skills; and mental health services, such as coping with the traumatic experiences of war.

Applications under this section should indicate how the grantee will ensure that services are culturally and linguistically appropriate.

II. Award Information

Funding Instrument Type: Cooperative Agreement.

Description of Federal Substantial Involvement With Cooperative Agreement

ORR Responsibilities

a. ORR will consult with PRM and national voluntary agencies on arriving populations with special needs and appropriate resettlement sites for refugee populations. ORR will provide approval in writing to the grantee following PRM and national voluntary agency consultation on arriving populations with special needs.

b. ORR will provide written approval and funds to support the approved grantee's activities and budget both for increased opportunity and special needs.

National Voluntary Agency Responsibilities

a. Grantees will consult with PRM and ORR on appropriate resettlement sites for refugees with special needs.

b. Grantees will propose a specified amount of funds for each refugee with special needs.

c. Grantees will begin funding sites for special needs upon receipt of written approval from ORR. If this need arises in the middle of a budget year, the grantee will send a letter of request to ORR.

d. Grantees will consult with the State Refugee Coordinator in planning and coordination of services.

e. Grantees will discuss, in the last two Program Performance Reports, the transition of services indicating whether the services are now supported by the State or Wilson/Fish project, other public or private resources, or are no longer needed. These reports must provide supporting information on the impact of the services provided on the target population.

Anticipated Total Priority Area Funding: $960,000 per 12 months.

Anticipated Number of Awards: 10.

Ceiling of Individual Awards: $320,000 per 12 months.

The award amount is for planning purposes only.

Floor on Amount of Individual Awards: $50,000 per 12 months.

Average Anticipated Award Amount: $160,000 per 12 months.

Project Periods for Awards: Up to 36 months.

III. Eligibility Information

III.1. Eligible Applicants

County governments

City of township governments

Independent school districts

State controlled institutions of higher education

Native American tribal organizations (other Federally recognized tribal governments)

Nonprofits having a 501 (c)(3) status with the IRS, other than institutions of higher education

Nonprofits that do not have a 501 (c)(3) status with the IRS, other than institutions of higher education

Additional Information on Eligibility

Eligible applicants are ten national voluntary agencies that currently resettle refugees under a Reception and Placement Cooperative Agreement with the Department of State or with the Department of Homeland Security. Priority Area 1-Preferred Communities is restricted to these agencies because placements of new arrivals occur under the terms of the cooperative agreements, and no other agencies place new arrivals or participate in determining their resettlement sites.

Non-Profit Status: Any non-profit organization submitting an application must submit proof of its non-profit status in its application at the time of submission. The non-profit agency can accomplish this by providing (a) a reference to the applicant organization's listing in the Internal Revenue Service's (IRS) most recent list of tax-exempt organizations described in the IRS Code; (b) a copy of a currently valid IRS tax exemption certificate; (c) a statement from a State taxing body; State attorney general, or other appropriate State official certifying that the applicant organization has a non-profit status and that none of the net earnings accrue to any private shareholders or individuals; (d) a certified copy of the organization's certificate of incorporation or similar document that clearly establishes non-profit status; (e) or any of the items referenced above for a State or national parent organization and a statement signed by the parent organization that the applicant organization is a local non-profit affiliate.

Client Eligibility: Eligibility for refugee social services includes: (1) Refugees; (2) asylees; (3) Cuban and Haitian entrants; (4) certain Amerasians from Vietnam; including U.S. citizens; (5) for eligibility for trafficking victims, refer to 45 CFR 400.43 and ORR State Letter #01-13, http://www.acf.hhs.gov/programs/orr/policy/sl01-13.htm as modified by ORR State Letter #02-01 http://www.acf.hhs.gov/programs/orr/policy/sl02-01.htm on trafficking victims. For convenience, the term “refugee” is used in this notice to encompass all such eligible persons.

There are no pre-award additional requirements.

III.2. Cost-Sharing or Matching

Cost sharing or matching funds are not required for applications submitted under this program announcement.

III.3. Other

There is no limit on the number of applications that an organization can submit for this announcement.

All applicants must have a DUNS number. On June 27, 2003, the Office of Management and Budget published in the Federal Register a new Federal policy applicable to all Federal grant applicants. The policy requires Federal grant applications to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formal, entitlement and block grant programs, submitted on or after October 1, 2003.

Please ensure that your organization has a DUNS number. You may acquire a DUNS number at no cost by calling the dedicated toll-free DUNS number request line at 1-866-705-5711, or you may request a number on-line at http://www.dnb.com.

Applications that fail to follow the required format described in section IV.2. Content and Form of Application Submission will be considered non-responsive and will not be eligible for funding under this announcement.

IV. Application and Submission Information

IV.1 Address To Request Application Package

Sue Benjamin, HHS, ACF, ORR/DCR, 370 L'Enfant Promenade, SW., 8th Floor West, Washington, DC 20447, Telephone—202-401-4851, E-mail: sbenjamin@acf.hhs.gov.

IV.2 Content and Form of Application Submission

The required application package will include the following:

Application Content

An original and two copies of the complete application are required. The original and 2 copies must include all required forms, certifications, assurances, and appendices, be signed by an authorized representative, have original signatures. Each application must include the following components:

1. Table of Contents

(a) Abstract of the Proposed Project—very brief, not to exceed 250 words, that would be suitable for use in an announcement that the application has been selected for a grant award and which identifies the type of project, the target population and the major elements of the work plan.

(b) Completed Standard Form 424—that has been signed by an Official of the organization applying for the grant who has authority to obligate the organization legally.

(c) Standard Form 424A—Budget Information Non-Construction Programs.

(d) Narrative Budget Justification—for each object class category required under Section B., Standard Form 424A.

(e) Project Narrative—A narrative that addresses issues described in the “Application Review Information” section of this announcement.

2. Application Format

Submit application materials on white 8½ x 11 inch paper only. Do not use colored, oversized or folded materials.

Please do not include organizational brochures or other promotional materials, slides, films, clip, etc.

The font size may be no smaller than 12 pitch and the margins must be at least one inch on all sides.

Please present application materials either in loose-leaf notebooks or in folders with pages two-hole punched at the top center and fastened separately with a slide paper fastener.

Please do not include books or videotapes as they are not easily reproduced and are, therefore, inaccessible to the reviewers.

3. Page Limitation

Each application narrative should not exceed 20 pages in a double spaced 12 pitch font. Attachments and appendices should not exceed 25 pages and should be used only to provide supporting documentation such as administration charts, position descriptions, resumes, and letters of intent or partnership agreements. A table of contents and an abstract should be included but will not count in the page limitations. Each page should be numbered sequentially, including the attachments and appendices. This limitation of 20 pages should be considered a maximum, and not necessarily a goal. Application forms (including the Narrative Budget Justification) are not to be counted in the page limit. Any material submitted beyond the 20 pages will not be considered.

4. Forms and Certifications

Applicants requesting financial assistance for a non-construction project must sign and return Standard Form 424B, Assurances: Non-Construction Programs with their applications.

Applications must provide a Certification Regarding Lobbying. Prior to receiving an award in excess of $100,000, applicants shall furnish an executed copy of the lobbying certification. Applicants must sign and return the certification with their application.

Applicants must make the appropriate certification of their compliance with all Federal statues relating to nondiscrimination. By signing and submitting the application, applicants are providing the certification and need not mail back a certification form.

Applicants must make the appropriate certification of their compliance with the requirements of the Pro-Children Act of 1994 as outlined in Certification Regarding Environmental Tobacco Smoke.

Private, non-profit organizations may voluntarily submit with their applications the survey located under “Grants Related Documents and Forms” titled “Survey for Private, Non-Profit Grant Applicants” at http://www.acf.hhs.gov/programs/ofs/forms.htm.

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Please see Section V.1. Criteria, for instructions on preparing the project summary/abstract and the full project description.

IV.3 Submission Date and Times

The closing date for receipt of applications is February 28, 2005 (and February 28 of each succeeding year). Mailed applications received after 4:30 p.m. on the closing date will be classified as late. ACF will send an acknowledgement of receipt of application to the applicant.

Deadline: Applications shall be considered as meeting an announced deadline if they are received on or before the deadline date at: U.S. Department of Health and Human Services, Administration for Children and Families, Office of Grants Management, Division of Discretionary Grants, Attention: Sylvia Johnson, 370 L'Enfant Promenade, S.W., 4th Floor West, Washington, DC 20447.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Center, 901 D Street, SW., Washington, DC 20024, between Monday and Friday (excluding Federal holidays). The address must appear on the envelope/package containing the application with the note “Attention: Sylvia Johnson. (Applicants are cautioned that express/overnight mail services do not always deliver as agreed.) ACF cannot accommodate transmission of applications by fax or e-mail.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rests with the Chief Grants Management Officer.

What to submit | Required content | Required form or format | When to submit
Table of Contents | As described above | Consistent with guidance in “Application Content” section of this announcement. | By 02/28/05 (and by 02/28 of every succeeding year).
Abstract of Proposed Project | Brief abstract that identifies the type of project, the target population and the major elements of the proposed project | Consistent with guidance in “Application Content” section of this announcement | By 02/28/05 (and by 02/28 of every succeeding year).
Completed Standard Form 424 | As described above and per required form | May be found on http://www.acf.hhs.gov/programs/orr/funding | By 02/28/05 (and by 02/28 of every succeeding year).
Completed Standard Form 424A | As described above and per required form | May be found on http://www.acf.hhs.gov/programs/orr/funding | By 02/28/05 (and by 02/28 of every succeeding year).
Narrative Budget Justification | As described above | Consistent with guidance in “Application Content” section of this announcement | By 02/28/05 (and by 02/28 of every succeeding year).
Project Narrative | A narrative that addresses issues described in the “Application Review Information” section of this announcement | Consistent with guidance in “Application Content” section of this announcement | By 02/28/05 (and by 02/28 of every succeeding year).
Completed Standard Form 424B | As described above and per required form | May be found on http://www.acf.hhs.gov/programs/orr/funding | By 02/28/05 (and by 02/28 of every succeeding year).
Certification Regarding Lobbying | As described above and per required form | May be found on http://www.acfhhs.gov/programs/orr/funding | By 02/28/05 (and by 02/28 of every succeeding year).
Certification Regarding Environmental Tobacco Smoke | As described above and per required form | May be found on http://www.acf.hhs.gov/programs/orr/funding | By 02/28/05 (and by 02/28 of every succeeding year).

Additional Forms: Private, non-profit organizations may voluntarily submit with their applications the survey located under “Grants Related Documents and Forms” titled “Survey for Private, Non-Profit Grant Applicants” at http://www.acf.hhs.gov/programs/ofs/forms.htm.

Survey on Ensuring Equal Opportunity for Applicants | As described above and per required form | May be found on http://www.acf.hhs.gov/programs/ofs/forms.htm | By 02/28/05 (and by 02/28 of every succeeding year).

IV.4 Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs a soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Grants Management, Division of Discretionary Grants, 370 L'Enfant Promenade, SW., Washington, DC 20447.

The official list, including addresses, of the jurisdictions elected to participate in E.O. 12372 can be found on the following URL: http://www.whitehouse.gov/omb/grants/spoc.html.

IV.5 Funding Restrictions

Pre-award costs are not allowable charges to this program grant.

Construction is not an allowable activity or expenditure under this solicitation.

IV.6 Other Submission Requirements

Electronic Address to Submit Applications: http://www.Grants.gov.

Please see Section IV.2. Content and Form of Application Submission, for guidelines and requirements when submitting applications electronically.

Submission by Mail: Applications shall be considered as meeting an announced deadline if they are received on or before the deadline date at: U.S. Department of Health and Human Services, Administration for Children and Families, Office of Grants Management, Division of Discretionary Grants, Attention: Sylvia Johnson, 370 L'Enfant Promenade, SW., 4th Floor West, Washington, DC 20447.

Hand Delivery: Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Center, 901 D Street, SW., Washington, DC 20024, between Monday and Friday (excluding Federal holidays). The address must appear on the envelope/package containing the application with the note “Attention: Sylvia Johnson. (Applicants are cautioned that express/overnight mail services do not always deliver as agreed.) ACF cannot accommodate transmission of applications by fax or e-mail.

V. Application Review Information

V.1. Criteria

Paperwork Reduction Act of 1995 (Pub. L. 104-13)

Public reporting burden for this collection of information is estimated to average 25 hours per response, including the time for reviewing instructions, gathering and maintaining the data needed and reviewing the collection information.

The project description is approved under OMB control number 0970-0139 which expires 03/31/2004.

An agency may not conduct or sponsor, and a person is not required to respond to, a collection of information unless it displays a currently valid OMB number.

Instructions: ACF Uniform Project Description (UPD)

The following are instructions and guidelines on how to prepare the “project summary/abstract” and “Full Project Description” sections of the application. The generic UPD requirement is followed by the evaluation criterion specific to the Standing Announcement for Services to Recently Arrived Refugees Grant legislation.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information.

Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc. Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Nonfederal Resources

Description: Amounts of non-Federal resources that will be used to support the project as identified in Block 15 of the SF-424.

Justification: The firm commitment of these resources must be documented and submitted with the application in order to be given credit in the review process. A detailed budget must be prepared for each funding source.

Evaluation Criteria

Criterion 1. Objectives and Need for Assistance—The applicant demonstrates comprehensive understanding of refugee populations as new members of the U.S. community. The applicant also demonstrates an understanding of the activities that assist a community to prepare for new refugee populations. The conditions in proposed resettlement communities are clearly described. The need for additional services leading to enhanced resettlement for arriving populations is documented. The applicant provides a national placement plan that documents understanding of the arriving refugee groups and their characteristics. The applicant demonstrates a clear understanding of the population to be served. The national voluntary agency documents the number of special populations and the services needed. The number of refugees projected to be served is reasonable in light of the resettlement capacity. (25 points)

Criterion 2. Results or Benefits Expected—The applicant clearly describes the results and benefits to be achieved. The applicant proposes an increase in the actual number of free cases placed in the specified community or, in the case of special populations, the applicant clearly describes the additional program or services appropriate to the needs of the group. Results or benefits are described in terms of the opportunities provided for refugees. Proposed outcomes are measurable and achievable within the grant project period including special services and refugee self-sufficiency. The proposed monitoring and information collection is adequately planned and can be feasibly implemented within the proposed timelines. The applicant clearly describes how the special population will benefit from proposed services, e.g., enhanced case management, special medical care, referrals and follow-up with culturally and linguistically appropriate mainstream providers. The applicant describes how the impact of the funds will be measured on key indicators associated with the purpose of the project. Proposed outcomes are tangible and achievable within the grant project period, and the proposed monitoring and information collection are adequately planned. (25 points)

Criterion 3. Approach—The strategy and plan, including a description of each proposed preferred community and an assessment of appropriateness for placement, are likely to achieve increased placement in preferred communities and excellent opportunities for assimilation including specific discussion of special populations where appropriate. The proposed activities and timeframes are reasonable and feasible. The plan describes in detail how the proposed activities will be accomplished as well as the potential for the project to achieve economic independence for arriving refugees. The application includes a clear and comprehensive description of the preferred sites proposed. The application includes a clear and comprehensive description of the national voluntary agency placement planning activities, including meeting with the State Refugee Coordinator, documenting coordination and outcomes, community preparation activities, and how they will be impacted by this project. Assurance is provided that proposed services will be delivered in a manner that is linguistically and culturally appropriate to the target population. (20 points)

Criterion 4. Organizational Profiles—The administrative and management features of the project, including a plan for fiscal and programmatic management of each activity and planning activities, are described in detail with proposed start-up times, ongoing timelines, major milestones or benchmarks, a component/project organization chart, management of affiliates, monitoring and a staffing chart of affiliate network. The qualifications of project staff, both national applicant and affiliate agencies, as well as any volunteers, are documented. Discuss instances of managing grants of the same size as you are requesting here. (15 points)

Criterion 5. Budget and Budget Justification—The budget and narrative justification are reasonable, clearly presented, and cost-effective in relation to the proposed activities and anticipated results. The per capita budget is justified and reasonable. The applicant clearly indicates how awarded funds will complement Reception and Placement and other social services to achieve the objectives. (15 points)

V.2. Review and Selection Process

Each application submitted under this program announcement will undergo a pre-review to determine that (1) the application was received by the closing date and submitted in accordance with the instructions in this announcement and (2) the applicant is eligible for funding. It is necessary that applicants state specifically which priority area they are applying for. Applications will be screened for priority area appropriateness. Applications which pass the initial ACF screening will be evaluated and rated by an independent review panel on the basis specific evaluation criteria. The results of these reviews will assist the Director and ORR program staff in considering competing applications. Reviewers' scores will weigh heavily in funding decisions but will not be the only factors considered. Applications will generally be considered in order of the average scores assigned by reviewers. However, highly ranked applications are not guaranteed funding because other factors are taken into consideration. These include, but are not limited to, the number of similar types of existing grants or projects funded with ORR funds in the last five years, comments of reviewers and government officials; staff evaluation and input; geographic distribution; previous program performance of applicants; compliance with grant terms under previous ORR grants; audit reports; investigative reports; an applicants progress in resolving any final audit disallowance on previous ORR or other Federal agency grants. ORR will consider the geographic distribution of funds among States and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

VI. Award Administration Information

VI.1. Award Notices

Successful applicants can expect notification no later than September 30, 2005 (and September 30 of each succeeding year). A notice of award signed by the grants management officer will be mailed to the authorized representative. ORR will mail notification to the authorized representative of unsuccessful applicants.

VI.2. Administrative and National Policy Requirements

45 CFR Part 74.

VI.3. Reporting Requirements

Programmatic Reports: Semi-Annually and a final report is due 90 days after the end of grant period.

Financial Reports: Semi-Annually and a final report is due 90 days after the end of grant period.

There are no special reporting requirements.

Original reports and one copy should be mailed to the Grants Management Contact listed in section VII Agency Contacts.

VII. Agency Contacts

Program Office Contacts

Priority Areas 1 and 2: Sue Benjamin, HHS, ACF, ORR/DCR, 370 L'Enfant Promenade, SW., 8th Floor West, Washington, DC 20447, Telephone: 202-401-4851, E-mail: sbenjamin@acf.hhs.gov.

Priority Area 3: Mitiku Ashebir, HHS, ACF, ORR/DCR, 370 L'Enfant Promenade, SW., 8th Floor West, Washington, DC 20447, Telephone: 202-205-3602, E-mail: mashebir@acf.hhs.gov.

Grants Management Office Contact

Sylvia Johnson, Grants Officer, HHS, ACF, Office of Grants Management, Division of Discretionary Grants, 370 L'Enfant Promenade, SW., 4th Floor West, Washington, DC 20447, Telephone: 202-401-4524, E-mail: sjohnson@acf.hhs.gov.

VIII. Other Information

The Director reserves the right to award more, or less than the funds described in this announcement. In the absence of worthy applications, the Director may decide not to make an award if deemed in the best interest of the Government. Funding for future years, under this announcement, is at the Director's discretion and depends on the availability of appropriated funds. The Director may invite applications outside of the proposed closing date, if necessary, to respond to the needs of an imminently arriving refugee population.

An applicant may submit more than one application under this announcement, but must apply separately for each priority area.

Applications in Priority Area 1 are for project periods of up to three years (36 months). Awards, on a competitive basis, will be for a twelve (12) month budget period although project periods may be up to thirty-six (36) months. Applications for continuation grants funded under these awards, beyond the twelve (12) month budget period but within the thirty-six (36) month project period, will be entertained in subsequent years on a noncompetitive basis, subject to availability of funds, satisfactory progress of the grantee and a determination that continued funding would be in the best interest of the Government.

Priority Area 2: Unanticipated Arrivals

I. Funding Opportunity Description

Legislative Authority: This program is authorized by section 412(c)(1)(A) of the Immigration and Nationality Act (INA)(8 U.S.C. 1522(c)(1)(A), as amended, which authorizes the Director “to make grants to, and enter into contracts with, public or private nonprofit agencies for projects specifically designed—(i) to assist refugees in obtaining the skills which are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, educational and other services.”

Description

Purpose and Objectives

Under Priority Area 2, ORR invites applications that propose seventeen (17) month projects for a minimum of 100 refugees annually. Examples of situations for which applicants may request funds for grants under Priority Area 2 are as follows: (1) The existing service system does not have culturally and linguistically compatible staff; and (2) refugee services do not presently exist or the service capacity is not sufficient to accommodate significant increases in arrivals.

The purpose and objectives ORR seeks to achieve through Priority Area 2, Unanticipated Arrivals, are to provide additional resources to communities where the arrival of refugees is not anticipated and the refugee services are insufficient. Under these circumstances, resources are needed to provide additional service capacity to accommodate an increase of refugees. Through Priority Area 2—Unanticipated Arrivals, ORR intends to offer to communities the resources to respond to the unanticipated arrivals with adequate and culturally and linguistically appropriate social services.

This grant program is intended to provide for services that respond to the needs of new refugee populations shortly after arrival into the community. Applicants should view these resources, therefore, as a temporary solution to insufficient services necessitating program adjustment because of the unanticipated arrival of a refugee population in a specific community. Planning for the application and implementation of the program must be done in concert with the State Refugee Coordinator to assure an orderly transition and complement of services. ORR's expectation by the end of the grant project period is that the State government will have incorporated services for these new populations into its refugee services network funded and described in the last semi-annual performance report. ORR expects that applicants will coordinate with other local organizations in considering projects and proposing services.

Allowable Activities

Allowable activities in the unanticipated arrivals program are social services for refugees that are appropriate and accessible in language and culture. Services provided by all grantees, whether private, not-for-profit or public agencies, must comply with the regulations at 45 CFR sections 400.147, 400.150(a), and 400.154-156 regarding priorities for services, eligibility for services, scope of services, and service requirements.

Applications under this section should indicate how the grantee will ensure that (1) services are appropriate and accessible in language and culture, and (2) an orderly transition is achieved whereby services for the new populations will be incorporated into the State's refugee services network.

II. Award Information

Funding Instrument Type: Grant.

Anticipated Total Priority Area Funding: $630,000 up to every 17 months.

Anticipated Number of Awards: 15.

Ceiling of Individual Awards: $210,000 up to every 17 months.

The award amount is for planning purposes only.

Floor on Amount of Individual Awards: $50,000 up to every 17 months.

Average Projected Award Amount: $115,000 up to every 17 months.

Project Periods for Awards: Up to 17 months.

III. Eligibility Information

III.1. Eligible Applicants

County governments

City of township governments

Independent school districts

State controlled institutions of higher education

Native American tribal organizations (other Federally recognized tribal governments)

Nonprofits having a 501(c)(3) status with the IRS, other than institutions of higher education

Nonprofits that do not have a 501(c)(3) status with the IRS, other than institutions of higher education

Faith-based non-profit organizations

Additional Information on Eligibility

Non-Profit Status: Any non-profit organization submitting an application must submit proof of its non-profit status in its application at the time of submission. The non-profit agency can accomplish this by providing (a) a reference to the applicant organization's listing in the Internal Revenue Service's (IRS) most recent list of tax-exempt organizations described in the IRS Code; (b) a copy of a currently valid IRS tax exemption certificate; (c) a statement from a State taxing body; State attorney general, or other appropriate State official certifying that the applicant organization has a non-profit status and that none of the net earnings accrue to any private shareholders or individuals; (d) a certified copy of the organization's certificate of incorporation or similar document that clearly establishes non-profit status; (e) or any of the items referenced above for a State or national parent organization and a statement signed by the parent organization that the applicant organization is a local non-profit affiliate.

Client Eligibility: Eligibility for refugee social services includes: (1) Refugees; (2) asylees; (3) Cuban and Haitian entrants; (4) certain Amerasians from Vietnam; including U.S. citizens; (5) for eligibility for trafficking victims, refer to 45 CFR 400.43 and ORR State Letter #01-13, http://www.acf.hhs.gov/programs/orr/policy/sl01-13.htm as modified by ORR State Letter #02-01 http://www.acf.hhs.gov/programs/orr/policy/sl02-01.htm on trafficking victims. For convenience, the term “refugee” is used in this notice to encompass all such eligible persons.

There are no pre-award additional requirements.

III.2. Cost-Sharing or Matching

Cost sharing or matching funds are not required for applications submitted under this program announcement.

III.3. Other

There is no limit on the number of applications that an organization can submit for this announcement.

All applicants must have a DUNS number. On June 27, 2003, the Office of Management and Budget published in the Federal Register a new Federal policy applicable to all Federal grant applicants. The policy requires Federal grant applications to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formal, entitlement and block grant programs, submitted on or after October 1, 2003.

Please ensure that your organization has a DUNS number. You may acquire a DUNS number at no cost by calling the dedicated toll-free DUNS number request line at 1-866-705-5711, or you may request a number on-line at http://www.dnb.com.

Applications that fail to follow the required format described in section IV.2. Content and Form of Application Submission will be considered non-responsive and will not be eligible for funding under this announcement.

IV. Application and Submission Information

IV.1 Address To Request Application Package

Sue Benjamin, HHS, ACF, ORR/DCR, 370 L'Enfant Promenade, SW., 8th Floor West, Washington, DC 20447, Telephone—202-401-4851, or E-mail: sbenjamin@acf.hhs.gov.

IV.2 Content and Form of Application Submission

The required application package will include the following:

Application Content

An original and two copies of the complete application are required. The original and 2 copies must include all required forms, certifications, assurances, and appendices, be signed by an authorized representative, have original signatures. Each application must include the following components:

1. Table of Contents

(a) Abstract of the Proposed Project—very brief, not to exceed 250 words, that would be suitable for use in an announcement that the application has been selected for a grant award and which identifies the type of project, the target population and the major elements of the work plan.

(b) Completed Standard Form 424—that has been signed by an Official of the organization applying for the grant who has authority to obligate the organization legally.

(c) Standard Form 424A—Budget Information Non-Construction Programs.

(d) Narrative Budget Justification—for each object class category required under Section B, Standard Form 424A.

(e) Project Narrative—A narrative that addresses issues described in the “Application Review Information” section of this announcement.

Please see Section V.1. Criteria, for instructions on preparing the project summary/abstract and the full project description.

2. Application Format

Submit application materials on white 8½ x 11 inch paper only. Do not use colored, oversized or folded materials.

Please do not include organizational brochures or other promotional materials, slides, films, clip, etc.

The font size may be no smaller than 12 pitch and the margins must be at least one inch on all sides.

Please present application materials either in loose-leaf notebooks or in folders with pages two-hole punched at the top center and fastened separately with a slide paper fastener.

Please do not include books or videotapes as they are not easily reproduced and are, therefore, inaccessible to the reviewers.

3. Page Limitation

Each application narrative should not exceed 20 pages in a double spaced 12 pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages should be considered a maximum, and not necessarily a goal. Application forms (including the Narrative Budget Justification) are not to be counted in the page limit. Any material submitted beyond the 20 pages will not be considered.

4. Forms and Certifications

Applicants requesting financial assistance for a non-construction project must sign and return Standard Form 424B, Assurances: Non-Construction Programs with their applications.

Applications must provide a Certificate Regarding Lobbying. Prior to receiving an award in excess of $100,000, applicants shall furnish an executed copy of the lobbying certification. Applicants must sign and return the certification with their application.

Applicants must make the appropriate certification of their compliance with all Federal statutes relating to nondiscrimination. By signing and submitting the application, applicants are providing the certification and need not mail back a certification form.

Applicants must make the appropriate certification of their compliance with the requirements of the Pro-Children Act of 1994 as outlined in Certification Regarding Environmental Tobacco Smoke.

Private, non-profit organizations may voluntarily submit with their applications the survey located under “Grants Related Documents and Forms” titled “Survey for Private, Non-Profit Grant Applicants” at http://www.acf.hhs.gov/programs/ofs/forms.htm.

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

IV.3 Submission Date and Time

The closing date for receipt of applications is February 28, 2005 (and February 28 of each succeeding year). Mailed applications received after 4:30 p.m. on the closing date will be classified as late. ACF will send an acknowledgement of receipt of application to the applicant.

Deadline: Mailed applications shall be considered as meeting an announced deadline if they are received on or before the deadline date at: U.S. Department of Health and Human Services, Administration for Children and Families, Office of Grants Management, Division of Discretionary Grants, Attention: Sylvia Johnson, 370 L'Enfant Promenade, SW., 4th Floor West, Washington, DC 20447.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Center, 901 D Street, SW., Washington, DC 20024, between Monday and Friday (excluding Federal holidays). The address must appear on the envelope/package containing the application with the note “Attention: Sylvia Johnson. (Applicants are cautioned that express/overnight mail services do not always deliver as agreed.) ACF cannot accommodate transmission of applications by fax or e-mail.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rests with the Chief Grants Management Officer.

What to submit | Required content | Required form or format | When to submit
Table of Contents | As described above | Consistent with guidance in “Application Content” section of this announcement | By 02/28/05 (and by 02/28 of every succeeding year).
Abstract of Proposed Project | Brief abstract that identifies the type of project, the target population and the major elements of the proposed project | Consistent with guidance in “Application Content” section of this announcement | By 02/28/05 (and by 02/28 of every succeeding year).
Completed Standard Form 424 | As described above and per required form | May be found on http://www.acf.hhs.gov/programs/orr/funding | By 02/28/05 (and by 02/28 of every succeeding year).
Completed Standard Form 424A | As described above and per required form | May be found on http://www.acf.hhs.gov/programs/orr/funding | By 02/28/05 (and by 02/28 of every succeeding year).
Narrative Budget Justification | As described above | Consistent with guidance in “Application Content” section of this announcement | By 02/28/05 (and by 02/28 of every succeeding year).
Project Narrative | A narrative that addresses issues described in the “Application Review Information” section of this announcement | Consistent with guidance in “Application Content” section of this announcement | By 02/28/05 (and by 02/28 of every succeeding year).
Completed Standard Form 424B | As described above and per required form | May be found on http://www.acf.hhs.gov/programs/orr/funding | By 02/28/05 (and by 02/28 of every succeeding year).
Certification Regarding Lobbying | As described above and per required form | May be found on http://www.acf.hhs.gov/programs/orr/funding | By 02/28/05 (and by 02/28 of every succeeding year).
Certification Regarding Environmental Tobacco Smoke | As described above and per required form | May be found on http://www.acf.hhs.gov/programs/orr/funding | By 02/28/05 (and by 02/28 of every succeeding year).

Additional Forms: Private, non-profit organizations may voluntarily submit with their applications the survey located under “Grants Related Documents and Forms” titled “Survey for Private, Non-Profit Grant Applicants” at http://www.acf.hhs.gov/programs/ofs/forms.htm.

Survey on Ensuring Equal Opportunity for Applicants | As described above and per required form | May be found on http://www.acf.hhs.gov/programs/ofs/forms.htm | By 02/28/05 (and by 02/28 of every succeeding year).

IV.4 Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs a soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Grants Management, Division of Discretionary Grants, 370 L'Enfant Promenade, SW., Washington, DC 20447.

The official list, including addresses, of the jurisdictions elected to participate in E.O. 12372 can be found on the following URL: http://www.whitehouse.gov/omb/grants/spoc.html.

IV.5 Funding Restrictions

Pre-award costs are not allowable charges to this program grant.

Construction is not an allowable activity or expenditure under this solicitation.

IV.6 Other Submission Requirements

Electronic Address to Submit Applications: www.Grants.gov. Please see Section IV.2. Content and Form of Application Submission, for guidelines and requirements when submitting applications electronically.

Submission by Mail: Mailed applications shall be considered as meeting an announced deadline if they are received on or before the deadline date at: U.S. Department of Health and Human Services, Administration for Children and Families, Office of Grants Management, Division of Discretionary Grants, Attention: Sylvia Johnson, 370 L'Enfant Promenade, SW., 4th Floor West, Washington, DC 20447. Applicants are responsible for mailing applications well in advance, when using all mail services, to ensure that the applications are received on or before the deadline time and date.

Hand Delivery: Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Center, 901 D Street, SW., Washington, DC 20024, between Monday and Friday (excluding Federal holidays). The address must appear on the envelope/package containing the application with the note “Attention: Sylvia Johnson. (Applicants are cautioned that express/overnight mail services do not always deliver as agreed.) ACF cannot accommodate transmission of applications by fax or e-mail.

V. Application Review Information

V.1. Criteria

Paperwork Reduction Act of 1995 (Pub.L. 104-13)

Public reporting burden for this collection of information is estimated to average 25 hours per response, including the time for reviewing instructions, gathering and maintaining the data needed and reviewing the collection information.

The project description is approved under OMB control number 0970-0139 which expires 03/31/2004.

An agency may not conduct or sponsor, and a person is not required to respond to, a collection of information unless it displays a currently valid OMB number.

Instructions: ACF Uniform Project Description (UPD)

The following are instructions and guidelines on how to prepare the “project summary/abstract” and “Full Project Description” sections of the application. The generic UPD requirement is followed by the evaluation criterion specific to the Standing Announcement for Services to Recently Arrived Refugees Grant legislation.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information.

Any non-profit organization submitting an application must submit proof of its non-profit status in its application at the time of submission. Any non-profit organization submitting an application must submit proof of its non-profit status in this application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Nonfederal Resources

Description: Amounts of non-Federal resources that will be used to support the project as identified in Block 15 of the SF-424.

Justification: The firm commitment of these resources must be documented and submitted with the application in order to be given credit in the review process. A detailed budget must be prepared for each funding source.

Evaluation Criteria

Criterion 1. Objectives and Need—The application establishes that the unanticipated number of at least 100 refugees or more is significant relative to the resident population. The applicant documents the most recent 12-month period of refugee arrivals, both anticipated and unanticipated. The application includes a description of the need for services and how funding through the Unanticipated Arrivals program would meet those needs. The application, supported by a letter from the relevant voluntary agency, documents the planned projections of refugees for the next 12 months. (25 points)

Criterion 2. Results or Benefits Expected—The application clearly describes the project goals; appropriateness of the performance measures to the project activities; appropriateness of the performance outcomes and the results and benefits to be achieved. The application describes how the impact of the funds will be measured on key indicators associated with the purpose of the project. Proposed outcomes are measurable and achievable within the grant project period, and the proposed monitoring and information collection is adequately planned and can be feasibly implemented within the proposed timelines. (25 points)

Criterion 3. Approach—The strategy and plan are likely to achieve the proposed results; the proposed activities and timeframes are reasonable and feasible. The plan describes in detail how the proposed activities will be accomplished as well as the potential for the project to increase the available services for unanticipated arriving refugees. Assurance is provided that proposed services will be delivered in a manner that is linguistically and culturally appropriate to the target population. Where coalition partners are proposed, the applicant has described each partner agency's respective role and financial responsibilities, and how the activities to be implemented by the coalition will enhance the accomplishment of the project goals. The applicant documents the planning consultation efforts and activities undertaken to achieve an orderly transition of services for these new populations. The State Refugee Coordinator indicates an interest in continuing these services to the Unanticipated Arrivals through their State formula social service funds. (20 points)

Criterion 4. Organizational Profiles—Individual organization staff, including volunteers, are well qualified. The administrative and management features of the project, including a plan for fiscal and programmatic management of each activity, are described in detail with proposed start-up times, ongoing timelines, major milestones or benchmarks, a component/project organization chart, and a staffing chart. Evidence of commitment of any coalition partners in implementing the activities is demonstrated, e.g., by Memorandums of Understanding (MOUs) among participants. Discuss instances of managing grants of the same size as you are requesting here. (15 points)

Criterion 5. Budget and Budget Justification—The budget and narrative justification are reasonable, clearly presented, and cost-effective in relation to the proposed activities and anticipated results. (15 points)

V.2. Review and Selection Process

Each application submitted under this program announcement will undergo a pre-review to determine that (1) the application was received by the closing date and submitted in accordance with the instructions in this announcement and (2) the applicant is eligible for funding. It is necessary that applicants state specifically which priority area they are applying for. Applications will be screened for priority area appropriateness. If applications are found to be inappropriate for the priority area in which they are submitted, applicants will be contacted for verbal approval of redirection to a more appropriate priority area. Applications which pass the initial ACF screening will be evaluated and rated by an independent review panel on the basis specific evaluation criteria. The results of these reviews will assist the Director and ORR program staff in considering competing applications. Reviewers' scores will weigh heavily in funding decisions but will not be the only factors considered. Applications will generally be considered in order of the average scores assigned by reviewers. However, highly ranked applications are not guaranteed funding because other factors are taken into consideration. These include, but are not limited to, the number of similar types of existing grants or projects funded with ORR funds in the last five years, comments of reviewers and government officials; staff evaluation and input; geographic distribution; previous program performance of applicants; compliance with grant terms under previous ORR grants; audit reports; investigative reports; an applicants progress in resolving any final audit disallowance on previous ORR or other Federal agency grants. ORR will consider the geographic distribution of funds among States and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

VI. Award Administration Information

VI.1. Award Notices

Successful applicants can expect notification no later than September 30, 2005 (and September 30 of each succeeding year). A notice of award signed by the grants management officer will be mailed to the authorized representative. ORR will mail notification to the authorized representative of unsuccessful applicants.

VI.2. Administrative and National Policy Requirements

45 CFR Part 74.

VI.3. Reporting Requirements

Programmatic Reports: Semi-Annually and a final report is due 90 days after the end of grant period.

Financial Reports: Semi-Annually and a final report is due 90 days after the end of grant period.

There are no special reporting requirements.

Original reports and one copy should be mailed to the Grants Management Contact listed in section VII Agency Contacts.

VII. Agency Contacts

Program Office Contacts

Priority Areas 1 and 2: Sue Benjamin, HHS, ACF, ORR/DCR, 370 L'Enfant Promenade, SW., 8th Floor West, Washington, DC 20447, Telephone: 202-401-4851, E-mail: sbenjamin@acf.hhs.gov.

Priority Area 3: Mitiku Ashebir, HHS, ACF, ORR/DCR, 370 L'Enfant Promenade, SW., 8th Floor West, Washington, DC 20447, Telephone: 202-205-3602, E-mail: mashebir@acf.hhs.gov.

Grants Management Office Contact

Sylvia Johnson, Grants Officer, HHS, ACF, Office of Grants Management, Division of Discretionary Grants, 370 L'Enfant Promenade, SW., 4th Floor West, Telephone: 202-401-4524, Washington, DC 20447, E-mail: sjohnson@acf.hhs.gov.

VIII. Other Information

The Director reserves the right to award more, or less than the funds described in this announcement. In the absence of worthy applications, the Director may decide not to make an award if deemed in the best interest of the Government. Funding for future years, under this announcement, is at the Director's discretion and depends on the availability of appropriated funds. The Director may invite applications outside of the proposed closing date, if necessary, to respond to the needs of an imminently arriving refugee population.

An applicant may submit more than one application under this announcement, but must apply separately for each priority area.

Applications in Priority Area 2 are for project periods and budget periods of up to seventeen (17) months.

Priority Area 3: Ethnic Community Self-Help

I. Funding Opportunity Description

Legislative Authority: This program is authorized by section 412(c)(1)(A) of the Immigration and Nationality Act (INA) (8 U.S.C. 1522(c)(1)(A)), as amended, which authorizes the Director “to make grants to, and enter into contracts with, public or private nonprofit agencies for projects specifically designed—(i) to assist refugees in obtaining the skills which are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, educational and other services.”

Description

Purpose and Objectives

The objective of this program is to provide assistance to organized ethnic communities comprised and representative of refugee populations. ORR's intended purpose is to build bridges among refugee communities and community resources. ORR is interested in applications from national, regional (multi-state), or local refugee community organizations that address community building, facilitate cultural adjustment and integration of refugees, and deliver mutually supportive functions such as information exchange, civic participation, resource enhancement, orientation and support to newly arriving refugees and public education to the larger community on the background, needs and potential of refugees.

Respondents to this program category will be of two general types:

(1) Multi-site or national ethnic organizations which propose to develop or strengthen local ethnic groups and/or a national network of ethnic entities for purposes of linking refugees to community resources and promoting and strengthening community participation; or,

(2) Emerging local ethnic communities which seek to function as bridges between newly arrived refugees and mainstream local resources and organizations.

A robust community is one that has the capacity to generate and control its own resources, determine its own goals, set priorities, plan and mobilize a cross-section of community members, including the elderly, women and youth, to work together to achieve these goals and to create collaborations with others from within and outside the community to further these goals.

ORR recognizes that one key factor in strengthening communities is the development of strong community-based organizations (CBOs). A strong ethnic organization can tap into the community's interest in self-help, improving services, supporting community leaders, attracting resources by exploring various opportunities and collaborating with mainstream agencies and groups, and at the same time, remain accountable to the community. These community based ethnic organizations may be faith-based.

Strong CBOs can also facilitate positive interaction between refugees and established residents in mainstream communities. The ability to organize and to voice their concerns collectively gives refugees a better sense of identity and hope for their own and their community's future. Refugee self-help groups can be important building blocks for effective resettlement and can function as bridges between the refugee community and local resources by paving the way for smooth integration and positive and productive community relations.

Many refugees who arrived in this country during the past century organized themselves around self-help in order to assist their own members, to foster long-term community growth, to preserve their cultural heritage, and to assist community members in securing employment and other social services. Many refugees who have come to the United States in recent years have not yet organized; consequently, they may be experiencing barriers to accessing mainstream resources and to participating fully in economic, social, and civic activities in the larger community.

ORR has found that effective refugee self-help groups result in: a shared vision of the community's future which inspires members to work together to secure that future; a perception of refugees not as needy recipients but as active partners in their integration into their communities; a link between individual self-sufficiency and community self-reliance; local communities which apply their own cultural, civic and socio-economic values to long-term strategies and programs; a role for refugees as decision-makers on community needs, program responses, and service delivery systems; local resources that stay within the community; collaboration among refugee and mainstream service providers, policy makers, and public and private institutions.

In recognition of the special vulnerability of newly arrived populations, ORR intends to provide support to refugee ethnic communities who have significant populations in the United States within the last ten years. Awards will be based on the applicant's documentation and justification of such factors as community service needs and sound organizational and service delivery systems and available resources or a plan for such, aimed at mutual assistance in the community.

Allowable Activities

1. National organization applicants to this notice may propose activities that may include, but are not limited to, the following: organizing newly arriving refugees for self-help and mutual assistance, organizational and leadership development, civic participation; inspiring self-determination; linking technical assistance and resources for local ethnic communities; orientation on the background and potential of refugees to the larger community, establishing and strengthening links with institutions such as schools, crime prevention and law enforcement entities promoting mediation and constructive conflict resolution, promoting health and mental health services and augmenting agency linkages via internet connections; facilitating information dissemination on ethnic-specific issues; or convening of national or regional meetings and/or conference calls.

2. Local ethnic self-help applicants to this notice may propose any of the following activities: self-help organizing efforts, orientation designed to inform the refugee community about issues essential to functioning effectively in the new society; focused orientation and assistance to parents in connecting with school systems; dissemination of information on access to community health and mental health services, including health care for the uninsured, health insurance, health maintenance organizations, the importance of preventive health, required immunizations, and available universal coverage; pairing refugee individuals or families with community volunteers; enhancing and facilitating refugee rural resettlement efforts, information and training on the roles of men and women in the U.S. culture, such as, information on healthy marriage education programs and partnerships with healthy marriage community and faith-based programs; information on laws regarding child welfare, child abuse and neglect; information on sexual harassment and coercion, and domestic violence; bilingual staff assistance for women's shelters, and techniques for self-protection and safety; activities designed to improve relations between refugees and law enforcement entities; community training for such activities as civic organizing, resource strategies, and non-profit management and accountability.

The above are examples of services. Applicants may propose other relevant services and may request funds to cover core or general operating expenses. In all instances, however, activities must be designed to supplement, rather than to supplant or duplicate, the existing array of refugee services available in the community.

Planning and coalition-building should be guided by the overarching goal of improving the economic condition of refugee families and of giving them the information needed to achieve economic self-sufficiency and social and civic integration into their new country and their new communities.

Non-Allowable Activities

Funds will not be awarded to applicants for the purpose of engaging in activities of a distinctly political nature, activities designed exclusively to promote the preservation of a specific cultural heritage, or activities with an international objective (i.e., activities related to events in the refugees' country of origin).

II. Award Information

Funding Instrument Type: Grant.

Anticipated Total Priority Area Funding: $1,400,000 per 12 months.

Anticipated Number of Awards: 15-20.

Ceiling of Individual Awards: $200,000 per 12 months.

The award amount is for planning purposes only.

Floor on Amount of Individual Awards: $100,000 per 12 months.

Average Projected Award Amount: $130,000 per 12 months.

Project Periods for Awards: Up to 36 months.

III. Eligibility Information

III.1. Eligible Applicants

County governments

City of township governments

Independent school districts

State controlled institutions of higher education

Native American tribal organizations (other Federally recognized tribal governments)

Nonprofits having a 501(c)(3) status with the IRS, other than institutions of higher education

Nonprofits that do not have a 501(c)(3) status with the IRS, other than institutions of higher education

Faith-based non-profit organizations

Additional Information on Eligibility

Non-Profit Status: Any non-profit organization submitting an application must submit proof of its non-profit status in its application at the time of submission. The non-profit agency can accomplish this by providing (a) a reference to the applicant organization's listing in the Internal Revenue Service's (IRS) most recent list of tax-exempt organizations described in the IRS Code; (b) a copy of a currently valid IRS tax exemption certificate; (c) a statement from a State taxing body; State attorney general, or other appropriate State official certifying that the applicant organization has a non-profit status and that none of the net earnings accrue to any private shareholders or individuals; (d) a certified copy of the organization's certificate of incorporation or similar document that clearly establishes non-profit status; (e) or any of the items referenced above for a State or national parent organization and a statement signed by the parent organization that the applicant organization is a local non-profit affiliate.

Client Eligibility: Eligibility for refugee social services includes: (1) Refugees; (2) asylees; (3) Cuban and Haitian entrants; (4) certain Amerasians from Vietnam; including U.S. citizens; (5) for eligibility for trafficking victims refer to 45 CFR 400.43 and ORR State Letter #01-13, http://www.acf.hhs.gov/programs/orr/policy/sl01-13.htm as modified by ORR State Letter #02-01 http://www.acf.hhs.gov/programs/orr/policy/sl02-01.htm on trafficking victims. For convenience, the term “refugee” is used in this notice to encompass all such eligible persons.

There are no pre-award additional requirements.

III.2. Cost-Sharing or Matching

Cost sharing or matching funds are not required for applications submitted under this program announcement.

III.3. Other

There is no limit on the number of applications that an organization can submit for this announcement.

All applicants must have a DUNS number. On June 27, 2003, the Office of Management and Budget published in the Federal Register a new Federal policy applicable to all Federal grant applicants. The policy requires Federal grant applications to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formal, entitlement and block grant programs, submitted on or after October 1, 2003.

Please ensure that your organization has a DUNS number. You may acquire a DUNS number at no cost by calling the dedicated toll-free DUNS number request line at 1-866-705-5711, or you may request a number on-line at http://www.dnb.com.

Applications that fail to follow the required format described in section IV.2. Content and Form of Application Submission will be considered non-responsive and will not be eligible for funding under this announcement.

IV. Application and Submission Information

IV.1 Address To Request Application Package

Mitiku Ashebir, HHS, ACF, ORR/DCR, 370 L'Enfant Promenade, SW., 8th Floor West, Washington, DC 20447, Telephone—202-401-4851, E-mail: mashebir@acf.hhs.gov.

IV.2 Content and Form of Application Submission

The required application package will include the following:

Application Content

An original and two copies of the complete application are required. The original and 2 copies must include all required forms, certifications, assurances, and appendices, be signed by an authorized representative, have original signatures. Each application must include the following components:

1. Table of Contents

(a) Abstract of the Proposed Project—very brief, not to exceed 250 words, that would be suitable for use in an announcement that the application has been selected for a grant award and which identifies the type of project, the target population and the major elements of the work plan.

(b) Completed Standard Form 424—that has been signed by an Official of the organization applying for the grant who has authority to obligate the organization legally.

(c) Standard Form 424A—Budget Information Non-Construction Programs.

(d) Narrative Budget Justification—for each object class category required under Section B., Standard Form 424A.

(e) Project Narrative—A narrative that addresses issues described in the “Application Review Information” section of this announcement.

Please see Section V.1. Criteria, for instructions on preparing the project summary/abstract and the full project description.

2. Application Format

Submit application materials on white 8½ × 11 inch paper only. Do not use colored, oversized or folded materials.

Please do not include organizational brochures or other promotional materials, slides, films, clips, etc.

The font size may be no smaller than 12 pitch and the margins must be at least one inch on all sides.

Please present application materials either in loose-leaf notebooks or in folders with pages two-hole punched at the top center and fastened separately with a slide paper fastener.

Please do not include books or videotapes as they are not easily reproduced and are, therefore, inaccessible to the reviewers.

3. Page Limitation

Each application narrative should not exceed 20 pages in a double spaced 12 pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages should be considered a maximum, and not necessarily a goal. Application forms (including the Narrative Budget Justification) are not to be counted in the page limit. Any material submitted beyond the 20 pages will not be considered.

4. Forms and Certifications

Applicants requesting financial assistance for a non-construction project must sign and return Standard Form 424B, Assurances: Non-Construction Programs with their applications.

Applications must provide a Certificate Regarding Lobbying. Prior to receiving an award in excess of $100,000, applicants shall furnish an executed copy of the lobbying certification. Applicants must sign and return the certification with their application.

Applicants must make the appropriate certification of their compliance with all Federal statutes relating to nondiscrimination. By signing and submitting the application, applicants are providing the certification and need not mail back a certification form.

Applicants must make the appropriate certification of their compliance with the requirements of the Pro-Children Act of 1994 as outlined in Certification Regarding Environmental Tobacco Smoke.

Private, non-profit organizations may voluntarily submit with their applications the survey located under “Grants Related Documents and Forms” titled “Survey for Private, Non-Profit Grant Applicants” at http://www.acf.hhs.gov/programs/ofs/forms.htm.

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

IV.3 Submission Date and Time

The closing date for receipt of applications is February 28, 2005 (and February 28 of each succeeding year). Mailed applications received after 4:30 p.m. on the closing date will be classified as late. ACF will send an acknowledgement of receipt of application to the applicant.

Deadline: Mailed applications shall be considered as meeting an announced deadline if they are received on or before the deadline date at: U.S. Department of Health and Human Services, Administration for Children and Families, Office of Grants Management, Division of Discretionary Grants, Attention: Sylvia Johnson, 370 L'Enfant Promenade, SW., 4th Floor West, Washington, DC 20447.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants (near loading dock), Aerospace Center, 901 D Street, SW., Washington, DC 20024, between Monday and Friday (excluding Federal holidays). The address must appear on the envelope/package containing the application with the note “Attention: Sylvia Johnson.” (Applicants are cautioned that express/overnight mail services do not always deliver as agreed.) ACF cannot accommodate transmission of applications by fax or e-mail.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rests with the Chief Grants Management Officer.

What to submit | Required content | Required form or format | When to submit
Table of Contents | As described above | Consistent with guidance in “Application Content” section of this announcement | By 02/28/05 (and by 02/28 of every succeeding year).
Abstract of Proposed Project | Brief abstract that identifies the type of project, the target population and the major elements of the proposed project | Consistent with guidance in “Application Content” section of this announcement | By 02/28/05 (and by 02/28 of every succeeding year).
Completed Standard Form 424 | As described above and per required form | May be found on http://www.acf.hhs.gov/programs/orr/funding | By 02/28/05 (and by 02/28 of every succeeding year).
Completed Standard Form 424A | As described above and per required form | May be found on http://www.acf.hhs.gov/programs/orr/funding | By 02/28/05 (and by 02/28 of every succeeding year).
Narrative Budget Justification | As described above | Consistent with guidance in “Application Content” section of this announcement | By 02/28/05 (and by 02/28 of every succeeding year).
Project Narrative | A narrative that addresses issues described in the “Application Review Information” section of this announcement | Consistent with guidance in “Application Content” section of this announcement | By 02/28/05 (and by 02/28 of every succeeding year).
Completed Standard Form 424B | As described above and per required form | May be found on http://www.acf.hhs.gov/programs/orr/funding | By 02/28/05 (and by 02/28 of every succeeding year).
Certification Regarding Lobbying | As described above and per required form | May be found on http://www.acf.hhs.gov/programs/orr/funding | By 02/28/05 (and by 02/28 of every succeeding year).
Certification Regarding Environmental Tobacco Smoke | As described above and per required form | May be found on http://www.acf.hhs.gov/programs/orr/funding | By 02/28/05 (and by 02/28 of every succeeding year).

Additional Forms: Private, non-profit organizations may voluntarily submit with their applications the survey located under “Grants Related Documents and Forms” titled “Survey for Private, Non-Profit Grant Applicants” at http://www.acf.hhs.gov/programs/ofs/forms.htm.

Survey on Ensuring Equal Opportunity for Applicants | As described above and per required form | May be found on http://www.acf.hhs.gov/programs/ofs/forms.htm | By 02/28/05 (and by 02/28 of every succeeding year).

IV.4 Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs a soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Grants Management, Division of Discretionary Grants, 370 L'Enfant Promenade, SW., Washington, DC 20447.

The official list, including addresses, of the jurisdictions elected to participate in E.O. 12372 can be found on the following URL: http://www.whitehouse.gov/omb/grants/spoc.html.

IV.5 Funding Restrictions

Pre-award costs are not allowable charges to this program grant. Construction is not an allowable activity or expenditure under this solicitation.

IV.6 Other Submission Requirements

Electronic Address to Submit Applications: www.Grants.gov.

Please see Section IV.2. Content and Form of Application Submission, for guidelines and requirements when submitting applications electronically.

Submission by Mail: Mailed applications shall be considered as meeting an announced deadline if they are received on or before the deadline date at: U.S. Department of Health and Human Services, Administration for Children and Families, Office of Grants Management, Division of Discretionary Grants, Attention: Sylvia Johnson, 370 L'Enfant Promenade, SW., 4th Floor West, Washington, DC 20447. Applicants are responsible for mailing applications well in advance, when using all mail services, to ensure that the applications are received on or before the deadline time and date.

Hand Delivery: Applications hand-carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Center, 901 D Street, SW., Washington, DC 20024, between Monday and Friday (excluding Federal holidays). The address must appear on the envelope/package containing the application with the note “Attention: Sylvia Johnson. (Applicants are cautioned that express/overnight mail services do not always deliver as agreed.) ACF cannot accommodate transmission of applications by fax or e-mail.

V. Application Review Information

V.1. Criteria

Paperwork Reduction Act of 1995 (Pub. L. 104-13)

Public reporting burden for this collection of information is estimated to average 25 hours per response, including the time for reviewing instructions, gathering and maintaining the data needed and reviewing the collection information.

The project description is approved under OMB control number 0970-0139 which expires 03/31/2004.

An agency may not conduct or sponsor, and a person is not required to respond to, a collection of information unless it displays a currently valid OMB number.

Instructions: ACF Uniform Project Description (UPD)

The following are instructions and guidelines on how to prepare the “project summary/abstract” and “Full Project Description” sections of the application. The generic UPD requirement is followed by the evaluation criterion specific to the Standing Announcement for Services to Recently Arrived Refugees Grant legislation.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information.

Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc. Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Nonfederal Resources

Description: Amounts of non-Federal resources that will be used to support the project as identified in Block 15 of the SF-424.

Justification: The firm commitment of these resources must be documented and submitted with the application in order to be given credit in the review process. A detailed budget must be prepared for each funding source.

Evaluation Criteria

Criterion 1. Organizational Profiles—Individual organization staff, including volunteers, proposed partners and consultants, if any, are well qualified. The administrative and management features of the project, including a plan for fiscal and programmatic management of each activity, is described in detail with proposed start-up times, ongoing timelines, major milestones or benchmarks, a component/project organization chart, and a staffing chart. If appropriate, written agreements between grantees and sub-grantees or other cooperating entities, detailing work to be performed, remuneration, and other terms and conditions that structure or define the relationship to this project, are provided. Discuss instances of managing grants of the same size as you are requesting here. (25 points)

Criterion 2. Approach—The strategy and plan are likely to achieve the proposed results; the proposed activities, timeframes and benchmarks are meaningful, reasonable and feasible. The reason for taking the proposed approach to community organizing and support activities is adequately described. Proposed activities are likely to lead to desired outcomes, and the project is likely to lead to increased ethnic community self-help and participation in the community. (25 points)

Criterion 3. Results or Benefits Expected—The applicant describes outcomes which are likely to be reached through community organizing and the projected program activity. Two or more key indicators associated with ethnic community self-help are provided as measures of the impact of the proposed project. Proposed outcomes are measurable and achievable within the grant project period, and the proposed monitoring, information collection, and documentation activities are adequately planned. (20 points)

Criterion 4. Objectives and Need for Assistance—The applicant clearly describes the need for ethnic organizing in the community proposed and documents an understanding of the distinguishing characteristics of the relevant ethnic group. The principal and subordinate objectives are clearly stated; supporting documentation, such as letters of support from concerned interests are included. The applicant describes in detail how the ethnic community has been involved in the project planning, how project participants are identified, and provides evidence of their support for the plan of action and involvement as the project becomes operational. Planning studies incorporating demographic data and participant information are referenced or included as needed. (15 points)

Criterion 5. Budget and Budget Justification—The budget and narrative justification are reasonable, clearly presented, and cost-effective in relation to the proposed activities and anticipated results. (15 points)

V.2. Review and Selection Process

Each application submitted under this program announcement will undergo a pre-review to determine that (1) the application was received by the closing date and submitted in accordance with the instructions in this announcement and (2) the applicant is eligible for funding. It is necessary that applicants state specifically which priority area they are applying for. Applications will be screened for priority area appropriateness. If applications are found to be inappropriate for the priority area in which they are submitted, applicants will be contacted for verbal approval of redirection to a more appropriate priority area. Applications which pass the initial ACF screening will be evaluated and rated by an independent review panel on the basis specific evaluation criteria. The results of these reviews will assist the Director and ORR program staff in considering competing applications. Reviewers' scores will weigh heavily in funding decisions but will not be the only factors considered. Applications will generally be considered in order of the average scores assigned by reviewers. However, highly ranked applications are not guaranteed funding because other factors are taken into consideration. These include, but are not limited to, the number of similar types of existing grants or projects funded with ORR funds in the last five years, comments of reviewers and government officials; staff evaluation and input; geographic distribution; previous program performance of applicants; compliance with grant terms under previous ORR grants; audit reports; investigative reports; an applicants progress in resolving any final audit disallowance on previous ORR or other Federal agency grants. ORR will consider the geographic distribution of funds among States and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

VI. Award Administration Information

VI.1. Award Notices

Successful applicants can expect notification no later than September 30, 2005 (and September 30 of each succeeding year). A notice of award signed by the grants management officer will be mailed to the authorized representative. ORR will mail notification to the authorized representative of unsuccessful applicants.

VI.2. Administrative and National Policy Requirements

45 CFR Part 74.

VI.3. Reporting Requirements

Programmatic Reports: Semi-Annually and a final report is due 90 days after the end of grant period.

Financial Reports: Semi-Annually and a final report is due 90 days after the end of grant period.

There are no special reporting requirements.

Original reports and one copy should be mailed to the Grants Management Contact listed in section VII Agency Contacts.

VII. Agency Contacts

Program Office Contacts

Priority Areas 1 and 2: Sue Benjamin, HHS, ACF, ORR/DCR, 370 L'Enfant Promenade, SW., 8th Floor West, Washington, DC 20447, Telephone: 202-401-4851, E-mail: sbenjamin@acf.hhs.gov.

Priority Area 3: Mitiku Ashebir, HHS, ACF, ORR/DCR, 370 L'Enfant Promenade, SW., 8th Floor West, Washington, DC 20447, Telephone: 202-205-3602, E-mail: mashebir@acf.hhs.gov.

Grants Management Office Contact

Sylvia Johnson, Grants Officer, HHS, ACF, Office of Grants Management, Division of Discretionary Grants, 370 L'Enfant Promenade, SW., 4th Floor West, Telephone: 202-401-4524, Washington, DC 20447, E-mail: sjohnson@acf.hhs.gov.

VIII. Other Information

The Director reserves the right to award more, or less than the funds described in this announcement. In the absence of worthy applications, the Director may decide not to make an award if deemed in the best interest of the Government. Funding for future years, under this announcement, is at the Director's discretion and depends on the availability of appropriated funds. The Director may invite applications outside of the proposed closing date, if necessary, to respond to the needs of an imminently arriving refugee population.

Applications in Priority Area 3 are for project periods of up to thirty six (36) months. Awards, on a competitive basis, will be for a twelve (12) month budget period although project periods may be up to thirty-six (36) months. Applications for continuation grants funded under these awards, beyond the twelve (12) month budget period but within the thirty-six (36) month project period, will be entertained in subsequent years on a noncompetitive basis, subject to availability of funds, satisfactory progress of the grantee and a determination that continued funding would be in the best interest of the Government.

Dated: April 14, 2004.
Nguyen Van Hanh,
Director, Office of Refugee Resettlement.

[FR Doc. 04-9183 Filed 4-22-04; 8:45 am]

BILLING CODE 4184-01-P